DEPARTMENT OF THE TREASURY

Alcohol and Tobacco Tax and Trade Bureau

27 CFR Part 24

[Docket No. TTB-2016-0010; Notice No. 164B; Re: Notice No. 164 and Notice No. 164A]

RIN 1513-AB61

Wine Treating Materials and Related Regulations; Comment Period Extension

AGENCY: Alcohol and Tobacco Tax and Trade Bureau, Treasury.

ACTION: Notice of proposed rulemaking; extension of comment period.

SUMMARY: The Alcohol and Tobacco Tax and Trade Bureau (TTB) is extending for an additional 90 days the recently-reopened comment period for Notice No. 164, Wine Treating Materials and Related Regulations, a notice of proposed rulemaking published in the Federal Register on November 22, 2016. TTB is taking this action in response to a request from a wine industry trade association.

DATES: Written comments on Notice No. 164 are now due on or before April 9, 2018.

ADDRESSES: Please send your comments on Notice No. 164 to one of the following addresses:

• https://www.regulations.gov (via the online comment form for Notice No. 164 as posted within Docket No. TTB-2016-0010 at Regulations.gov, the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 400, Washington, DC 20005.

See the Public Participation section of Notice No. 164 for specific instructions and requirements for submitting comments.

FOR FURTHER INFORMATION CONTACT: Kara Fontaine, Regulations and Rulings Division, Alcohol and Tobacco Tax and Trade Bureau, 1310 G Street NW., Box 12, Washington, DC 20005; phone (202) 453-1039, ext. 103.

SUPPLEMENTARY INFORMATION: In Notice No. 164, a notice of proposed rulemaking published in the Federal Register on November 22, 2016 (81 FR 83752), the Alcohol and Tobacco Tax and Trade Bureau (TTB) requested public comment on amendments to its regulations pertaining to the production of wine and in particular in regard to the permissible treatments that may be applied to wine and to juice from which wine is made. TTB issued the proposed amendments in response to requests from wine industry members to authorize certain wine treating materials and processes not currently authorized by TTB regulations. In Notice No. 164, TTB invited comments on the proposed regulatory changes and the wine treatments and materials issues addressed in that document. The 60-day comment period for Notice No. 164 originally closed on January 23, 2017. In Notice No. 164A, published in the Federal Register on October 11, 2017 (82 FR 47167), TTB reopened the comment period for Notice No. 164 for an additional 90 days in response to industry member requests.

On October 24, 2017, TTB received a letter via the Regulations.gov Web site posting for Notice No. 164 from the Wine Institute, a large wine industry trade association based in San Francisco, California, requesting a 90-day extension of the comment period on the wine treating materials regulatory amendments proposed in Notice No. 164. In its letter, the Wine Institute stated that its members required additional time to consider the “complex and far reaching” proposals contained in Notice No. 164, as well as the document's request for input on other regulatory issues. The Wine Institute stated that TTB reopened the comment period for Notice No. 164 during the recent Northern California wildfires, which caused many of its members to experience calamitous personal and business losses. The Wine Institute also noted that TTB's proposal is open for comment during the holiday season, when many stakeholders will be unavailable due to commercial and family commitments. The Wine Institute's letter is posted as Comment 13 to Notice No. 164 within Docket No. TTB-2016-0010 on the Regulations.gov Web site at https://www.regulations.gov).

In response to this request, TTB is extending the comment period for Notice No. 164 for an additional 90 days. Therefore, comments on Notice No. 164 are now due on or before April 9, 2018. Comments on Notice No. 164 may be submitted as described above in the ADDRESSES section of this document.

Drafting Information

Kara Fontaine of the Regulations and Rulings Division drafted this notice.

Signed: November 17, 2017.
John J. Manfreda,
Administrator.

[FR Doc. 2017-26416 Filed 12-6-17; 8:45 am]

BILLING CODE 4810-31-P